DEPARTMENT OF AGRICULTURE

Food Safety and Inspection Service

[Docket No. FSIS-2007-0012]

Risk-Based Inspection System

AGENCY: Food Safety and Inspection Service, USDA.

ACTION: Notice of public meetings on risk-based inspection

SUMMARY: The Food Safety and Inspection (FSIS) will hold a series of public meetings on specific topics relating to risk-based inspection in processing. The first meeting will focus on the algorithm that the Agency intends to use to compute risk-based inspection levels for processing establishments. A second meeting will address the issue of attributing illness to food. Production volume will be discussed at the third meeting, and industry data will be the focus of the fourth meeting. The expert elicitation process will be discussed at the fifth meeting.

DATES: FSIS will hold the meetings on the following dates:

Monday, April 2, 2007 from 9 a.m. to 1 p.m. The first meeting will focus on the algorithm the Agency intends to use to compute risk-based inspection levels for processing establishments.

Thursday, April 5, 2007 from 8:30 a.m. to 4 p.m. This meeting will discuss the issue of attributing illness to food.

Wednesday, April 25, 2007 from 9 a.m. to 1 p.m. Production volume will be discussed at the third meeting.

Monday, April 30, 2007 from 9 a.m. to 1 p.m. The topic of industry data is the focus of the fourth meeting. A technical meeting on the expert elicitation process is also planned as the fifth meeting. The date of this meeting will be announced at a later time. Any changes in meeting dates or times will be posted on the FSIS Web site at http://www.fsis.usda.gov.

ADDRESSES: The meetings will be held in Room 244 at George Mason University, 3401 N. Fairfax Drive, Arlington, VA 22201. Directions to the site, the agenda, and other meeting materials will be posted on the FSIS Web site at http://www.fsis.usda.gov.

All meetings will be accessible through conference call. Specific information concerning connections and the telephone number will also be posted on the FSIS Web site. Members of the public should pre-register for the meetings (see Background). Online registration information is also located on the Web site.

FSIS welcomes comments on the topics to be discussed at the public meetings. An issue paper concerning the respective topics will be posted on the FSIS Web site, http://www.fsis.usda.gov, a week prior to each meeting, with the exception of the meeting on attribution. Comments may be submitted on the meeting topics by any of the following methods for 30 days from the date of completion of each public meeting:

• Electronic mail: An e-mail box has been established specifically for comments for RBI. Comments can be submitted to: riskbasedinspection@fsis.usda.gov.

• Mail, including floppy disks or CD-ROMs: Send to: Ellyn Blumberg, USDA, FSIS, Aerospace Building, 3rd floor, room 405, 14th and Independence Avenue, SW., Washington, DC 20250.

• Hand or courier-delivered items: Deliver to: Ellyn Blumberg at 901 D Street, SW., Washington, DC 20024. Have security guard call (202) 690-6520 in order to hand deliver items.

• Facsimile: Fax comments to: (202) 690-6519.

All submissions received must include the Agency name and docket number FSIS-2007-0012 and meeting topic. The comments also will be posted on the Agency's Web site at http://www.fsis.usda.gov.

FOR FURTHER INFORMATION CONTACT: Sally Fernandez for meeting information at (202) 690-6524, Fax (202) 690-6519, or e-mail sally.fernandez@fsis.usda.gov. Keith Payne for technical information at (202) 690-6522 or e-mail at keith.payne@fsis.usda.gov. Persons requiring a sign language interpreter or other special accommodations should notify the Agency contacts no later than two weeks before the meeting, at the numbers above or by e-mail.

SUPPLEMENTARY INFORMATION:

Background

FSIS is the public health regulatory agency in the U.S. Department of Agriculture (USDA) responsible for ensuring that the nation's commercial supply of meat, poultry, and egg products is safe, wholesome, and correctly labeled and packaged.

To better address the food safety and public health challenges it faces, FSIS is working to make its inspection system more risk-based and to continue to implement science-based policies. Although the Agency acknowledges that some types of meat and poultry products pose greater health risks than others, and some establishments control risks better than others, under the current system of processing inspection, a Consumer Safety Inspector visits every plant at least once every shift to perform a variety of verification procedures scheduled by the Performance Based Inspection System (PBIS.) PBIS schedules inspection procedures the same way in all processing plants, regardless of the particular food safety hazard associated with the products produced or processes performed at one plant versus another.

In July 2004, the Agency outlined the basic features of a predictive model that would permit FSIS to improve resource allocation by considering the inherent risks and risk control effectiveness of the meat and poultry establishments under Federal inspection. Since that time, FSIS has continued to develop and refine these ideas. In November 2005, FSIS addressed the National Advisory Committee on Meat and Poultry Inspection (NAMCPI) on Agency progress toward a Risk-Based Inspection System (RBIS). In May 2006, the Agency again addressed NAMCPI—this time on ideas the Agency has on measuring risk control effectiveness for RBI.

Reductions in the number of illnesses attributed to the consumption of adulterated meat and poultry products can be achieved by placing greater inspection and verification emphasis on establishments whose processes, owing to the nature and volume of their production, require greater control of the risks. FSIS believes that it can improve public health by focusing its efforts on processing establishments that produce products presenting high inherent risk and that are less effective in controlling risks. At the same time, FSIS can focus less on processing establishments that produce products that present low inherent risk and that exercise effective risk control. In both cases, establishments will continue to be inspected on a per shift basis, although the intensity of inspection will vary, depending on risk factors.

In October 2006, FSIS held a public meeting to present ideas about how the Agency can develop these measures for federally-inspected meat and poultry processing establishments and to accept stakeholder input.

This series of technical meetings that the Agency is announcing will address various dimensions of RBI and protecting public health, and FSIS is seeking input from all stakeholders on these matters. Prior to each meeting, FSIS will post on its Web site an issue paper on its current thinking concerning the respective topic or other relevant materials. At the meeting relating to attributing illness to food, the agency will invite experts to provide information and views on the definitions of attribution as well as state of the art methods in collecting attribution data. Each meeting will be moderated to ensure that all participants have ample opportunity to present their views. A transcript of the meetings will be taken and made available on the FSIS Web site, http://www.fsis.usda.gov.

All comments received in response to this notice will be considered part of the public record.

Members of the public should pre-register for the meeting. Online registration information is located at http://www.fsis.usda.gov.

Additional Public Notification

Public awareness of all segments of rulemaking and policy development is important. Consequently, in an effort to ensure that minorities, women and persons with disabilities are aware of this notice, FSIS will announce it online through the FSIS Web page located at http://www.fsis.usda.gov/regulations/2007_Notices_Index/. FSIS will also make copies of this Federal Register publication available through the FSIS Constituent Update, which is used to provide information regarding FSIS policies, procedures, regulations, Federal Register notices, FSIS public meetings, recalls, and other types of information that could affect or would be of interests to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

David P. Goldman,
Acting Administrator.

[FR Doc. 07-1662 Filed 3-30-07; 3:56 pm]

BILLING CODE 3410-DM-P